DEPARTMENT OF THE INTERIOR

Bureau of Land Management

[AZ-070-02-1232-EA, SRP-070-02-06&07]

Closure of Selected Public Lands

AGENCY: Bureau of Land Management, Interior.

ACTION: Temporary closure of selected public lands in La Paz County, Arizona, during the operation of the 2002 Whiplash Parker 200 and Parker 400 Desert Races.

SUMMARY: The Bureau of Land Management Lake Havasu Field Office announces the temporary closure of selected public lands under its administration in La Paz County, Arizona. This action is being taken to help ensure public safety and prevent unnecessary environmental degradation during the official permitted running of the 2002 Whiplash Parker 200 & 400 Desert Races.

DATES: Parker 200, January 19, through January 20, 2002; Parker 400, January 24, through January 26, 2002.

Specific restrictions and closure periods are as follows:

1. The PARKER 200 DESIGNATED COURSE is identical to the Parker 400 designated course, but limited to the area west of the CAP Canal and east of the Colorado River Indian Tribes Reservation boundary. The course is closed to public use from 6:00 p.m. Friday, January 18, 2002, to 6:00 p.m. Sunday, January 20, 2002.

2. The PARKER 400 DESIGNATED COURSE is comprised of BLM lands, roads and ways located two miles either side of:

(a) Shea Road from the eastern boundary of the Colorado River Indian Tribes Reservation to the junction with Swansea Road, and two miles either side of Swansea Road from its junction with Shea Road to the eastern bank of the Central Arizona Project Canal.

(b) Swansea Road from its junction with Shea Road, to the Four Corners intersection continuing to the “Midway” intersection.

(c) “Midway” intersection on the power line road east to Cunningham Wash.

(d) South on the OHV route paralleling Cunningham Wash to the intersection of Graham Well and the unpaved maintained road.

(e) The unpaved maintained road to the Bouse “Y”.

(f) The Bouse “Y” paralleling east side of unpaved maintained road to the “Midway” intersection.

(g) The power line road west along the East Cactus Plain Wilderness Area boundary to Osborne Wash.

(h) Osborne Wash west, crossing the CAP Canal, following the Cactus Plain WSA boundary south of Shea Road and the Shea Road Pit Area.

(i) Osborne Wash west to the eastern boundary of the Colorado River Indian Tribes reservation is closed to public use from 6 a.m. Friday, January 25, 2002, to 6 p.m. Sunday, January 27, 2002.

3. The entire designated race course is closed to all vehicles except authorized and emergency vehicles.

4. Vehicle parking or stopping in areas affected by the closure is prohibited except in the designated spectator areas. Emergency parking for brief periods of time is permitted on roads open for public use.

5. Spectator viewing (on public land) is limited to the two designated spectator areas located near the Bouse “Y”, and the east side of the unpaved maintained road between the Bouse “Y” and the CAP crossing, four miles north of Bouse, Arizona.

6. The following regulations will be in effect for the duration of the closure. Unless otherwise authorized, no person shall:

a. Camp in any area outside of the designated spectator areas.

b. Enter any portion of the race course or any wash located within the race course, including all portions of Osborne Wash.

c. Spectate or otherwise be located outside of the designated spectator or pit areas.

d. Firearms must be unloaded and cased, and are not to be used during the closure.

e. Fireworks are prohibited.

f. Operate any vehicle (other than registered event vehicles), including an off-highway vehicle (OHV), which is not legally registered for street and highway operation, including operation of such a vehicle in spectator viewing areas, along the race course, and in designated pit areas.

g. Park any vehicle in violation of posted restrictions, or in such a manner as to obstruct or impede normal or emergency traffic movement or the parking of other vehicles, create a safety hazard, or endanger any person, property or feature. Vehicles so parked are subject to citation, removal and impoundment at the owner's expense.

h. Take any vehicle through, around or beyond a restrictive sign, recognizable barricade, fence or traffic control barrier.

i. Fail to keep their site free of trash and litter during the period of occupancy, or fail to remove all personal equipment, trash, and litter upon departure.

j. Violate quiet hours by causing an unreasonable noise as determined by the authorized officer between the hours of 10:00 p.m. and 6:00 a.m. Mountain Standard Time.

k. Allow any pet or other animal in their care to be unrestrained at any time.

Signs and maps directing the public to the designated spectator areas will be provided by the Bureau of Land Management or the event sponsor. The above restrictions do not apply to emergency vehicles and vehicles owned by the United States, the State of Arizona, or La Paz County. Vehicles under permit for operation by event participants must follow the race permit stipulations. Authority for closure of public lands is found in 43 CFR 8340, Subpart 8341; 43 CFR 8360, Subpart 8364.1; and 43 CFR 8372. Persons who violate this closure order are subject to arrest and, upon conviction, may be fined not more than $100,000 and/or imprisoned for not more than 12 months.

FOR FURTHER INFORMATION CONTACT: Bryan Pittman, District Law Enforcement Ranger, or Myron McCoy, Outdoor Recreation Planner, BLM Lake Havasu Field Office, 2610 Sweetwater Avenue, Lake Havasu City, Arizona 86406, (928) 505-1200.

Dated: November 30, 2001.
Donald Ellsworth,
Field Manager, Lake Havasu Field Office.

[FR Doc. 01-31756 Filed 12-26-01; 8:45 am]

BILLING CODE 4310-32-P